DEPARTMENT OF TRANSPORTATION

Federal Aviation Administration

14 CFR Part 71

[Docket No. FAA-2024-2333; Airspace Docket No. 24-AAL-111]

RIN 2120-AA66

Modification of Class E Airspace; Alaska, AK

AGENCY: Federal Aviation Administration (FAA) DOT.

ACTION: Proposed rule; withdrawal.

SUMMARY: The FAA is withdrawing the NPRM published in the Federal Register on November 7, 2024, which proposed to modify Class E airspace extending upward from 1,200 feet above the surface within a designated landmass and within 12 miles from a designated coastline associated with the state of Alaska. Additionally, this action proposed administrative amendments to update the airspace's existing Class E airspace legal description. These actions were to support lower altitude instrument flight rules (IFR) operations and enhance safety for aircraft utilizing IFR and visual flight rules (VFR) operations.

DATES: Effective as of 0901 UTC, November 25, 2024, the proposed rule published November 7, 2024 (89 FR 88182, November 7, 2024), is withdrawn.

FOR FURTHER INFORMATION CONTACT: Keith T. Adams, Federal Aviation Administration, Western Service Center, Operations Support Group, 2200 S 216th Street, Des Moines, WA 98198; telephone (206) 231-2428.

SUPPLEMENTARY INFORMATION:

History

The FAA published a notice of proposed rulemaking in the Federal Register for Docket No. FAA-2024-2333 (89 FR 88182; November 7, 2024). The NPRM proposed to modify Class E airspace extending upward from 1,200 feet above the surface within a designated landmass and within 12 miles from a designated coastline associated with the state of Alaska. Additionally, this action proposed administrative amendments to update the airspace's existing Class E airspace legal description. Interested parties were invited to participate in this rulemaking effort by submitting written comments on the proposal. The FAA is withdrawing this NPRM to further explain the FAA's proposal and to provide additional information about the need for the change.

The Withdrawal

In consideration of the foregoing, the NPRM for Docket No. FAA-2024-2333 (89 FR 88182, November 7, 2024) FR Doc. 2024-25855 is hereby withdrawn.

Authority: 49 U.S.C. 106(f), 106(g); 40103, 40113, 40120; E.O. 10854, 24 FR 9565, 3 CFR, 1959-1963 Comp., p. 389.

Issued in Des Moines, Washington, on November 18, 2024.
B.G. Chew,
Group Manager, Operations Support Group, Western Service Center.

[FR Doc. 2024-27377 Filed 11-22-24; 8:45 am]

BILLING CODE 4910-13-P